DEPARTMENT OF ENERGY

Federal Energy Regulatory Commission

[Docket No. RP04-155-000]

Northern Natural Gas Company; Notice of Tariff Filing

February 5, 2004.

Take notice that on January 30, 2004, Northern Natural Gas Company (Northern) tendered for filing as part of its FERC Gas Tariff, Fifth Revised Volume No. 1, the revised tariff sheets set forth in Appendix A to the filing.

Northern states that the tariff sheets are being filed to effectuate changes in the rates and terms applicable to Northern's jurisdictional services. The effect of the rate case is an overall increase in revenues of approximately $29.6 million above the annual revenue requirement established in Northern's 2003 rate case.

The changes reflected in the Revised Tariff Sheets to be effective March 1, 2004, are required to effectuate the rate increase and to make certain changes to Northern's tariff. In addition, Northern proposes Pro Forma Tariff Sheets which reflect further changes to become effective on a prospective basis following a Commission order on the merits or a settlement of this proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-405 Filed 2-25-04; 8:45 am]

BILLING CODE 6717-01-P